FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012182-003.

Title: Hyundai Glovis/EUKOR Car Carrier Inc. Space Charter Agreement.

Parties: Hyundai Glovis Co., Ltd. and Eukor Car Carriers, Inc.

Filing Party: Wayne Rohde, Esq.; Cozen O'Connor; 1200 19th Street NW., Washington, DC 20036.

Synopsis: The amendment revises the agreement to reflect a more specific understanding reached by the parties with respect to the amount of space to be chartered.

Agreement No.: 012257-001.

Title: Zim/Turkon Slot Charter Agreement.

Parties: ZIM Integrated Shipping Services, Ltd. and Turkon Container Transportation & Shipping Inc.

Filing Party: Mark E. Newcomb; ZIM American Integrated Shipping Services, Co., LLC; 5801 Lake Wright Dr., Norfolk, VA 23508.

Synopsis: The amendment adds the port of Istanbul, Aliaga, Turkey to the geographic scope of the Agreement.

Agreement No.: 012307-002.

Title: Maersk Line/APL Slot Exchange Agreement.

Parties: Maersk Line A/S and APL Co. Pte. Ltd./American President Lines, Ltd. (acting as a single party).

Filing Party: Wayne Rohde, Esq.; Cozen O'Connor; 1200 19th Street NW., Washington, DC 20036.

Synopsis: This amendment deletes the slot exchange that had occurred on the MECL1 and AZX services, converts the Agreement into a reciprocal space charter, deletes language rendered obsolete by the elimination of the slot exchange, and restates the Agreement.

Agreement No.: 012471.

Title: APL/Maersk Line Slot Charter Agreement.

Parties: Maersk Line A/S and APL Co. Pte. Ltd./American President Lines, Ltd. (acting as a single party).

Filing Party: Wayne Rohde, Esq.; Cozen O'Connor; 1200 19th Street NW., Washington, DC 20036.

Synopsis: The Agreement authorizes APL to sell slots to Maersk Line on its PE1 service in the trade between the U.S. Atlantic Coast and Sri Lanka, Singapore, Malaysia and Indonesia.

Agreement No.: 012472.

Title: Yang Ming/COSCO Shipping Slot Exchange Agreement.

Parties: COSCO Shipping Lines Co., Ltd. and Yang Ming Marine Transport Corporation.

Filing Party: Joshua Stein; Cozen O'Connor; 1200 19th Street NW., Washington, DC 20036.

Synopsis: The Agreement authorizes the parties to exchange space from Yang Ming to COSCO Shipping on the service referred to as the PS2 and operated under THE Alliance Agreement (FMC Agreement No. 012439), in exchange for space from COSCO Shipping to Yang Ming on the service referred to as the CEN and operated under the OCEAN Alliance Agreement (FMC Agreement No. 012426).

By Order of the Federal Maritime Commission.
Dated: March 10, 2017.
Rachel E. Dickon,
Assistant Secretary.

[FR Doc. 2017-05146 Filed 3-14-17; 8:45 am]

BILLING CODE 6731-AA-P